DEPARTMENT OF THE INTERIOR

National Park Service

[NPS-WASO-NAGPRA-11687; 2200-1100-665]

Native American Graves Protection and Repatriation Review Committee Findings Related to the Identity and Return of Cultural Items in the Possession of the University of Pennsylvania Museum of Archaeology and Anthropology, Philadelphia, PA

AGENCY: National Park Service, Interior.

ACTION: Native American Graves Protection and Repatriation Review Committee: Findings.

This notice is published as part of the National Park Service's administrative responsibilities pursuant to the Native American Graves Protection and Repatriation Act (25 U.S.C. 3006(g)). The recommendations, findings and actions of the Review Committee associated with this dispute are advisory only and not binding on any person. These advisory findings and recommendations do not necessarily represent the views of the National Park Service or Secretary of the Interior. The National Park Service and the Secretary of the Interior have not taken a position on these matters.

SUMMARY: The Native American Graves Protection and Repatriation Review Committee (Review Committee) was established by Section 8 of the Native American Graves Protection and Repatriation Act (NAGPRA; 25 U.S.C. 3006), and is an advisory body governed by the Federal Advisory Committee Act (5 App. U.S.C. 1-16). At its November 17-19, 2010 public meeting in Washington, DC, and acting pursuant to its statutory responsibility to convene the parties to a dispute relating to the identity and return of cultural items, and to facilitate the resolution of such a dispute, the Review Committee heard a dispute between the Hoonah Indian Association, joined by the Huna Totem Corporation, and the University of Pennsylvania Museum of Archaeology and Anthropology. The issues before the Review Committee were (1) whether, in their request for the repatriation of 38 catalogued objects deriving from the Snail House and one catalogued object deriving from the Eagle's Nest House that are in the possession of the University of Pennsylvania Museum of Archaeology and Anthropology, the requestors proved that all the requested objects are both “sacred objects” and objects of “cultural patrimony,” as these terms are defined in NAGPRA; and (2) whether, in response to the request for the repatriation of the 39 catalogued objects, the University of Pennsylvania Museum of Archaeology and Anthropology presented evidence proving that the Museum has a “right of possession” to any of the objects, as this term is defined in the NAGPRA regulations. The Review Committee found that all of the requested objects are both sacred objects and objects of cultural patrimony, and that the University of Pennsylvania Museum of Archaeology and Anthropology does not have a right of possession to any of those cultural items. The Review Committee meeting transcript containing the dispute proceedings and Review Committee deliberation and findings is available from the National NAGPRA Program upon request (NAGPRA_Info@nps.gov).

SUPPLEMENTARY INFORMATION: Since 1924, thirty-eight cataloged objects deriving from the Táx̱ ´ Hit, or Snail House (Snail House), of the T'aḵdeintaan Clan of Tlingit Indians from Hoonah, Alaska have been in the possession of the University of Pennsylvania Museum of Archaeology and Anthropology. The Snail House is also known as Tsalx̱áan Hit, or the Mt. Fairweather House. In addition, since 1918, a Shakee.át, or Marmot Frontlet (Frontlet) deriving from the Eagle's Nest House of the T'aḵdeintaan Clan of Tlingit Indians also has been in the possession of the University of Pennsylvania Museum of Archaeology and Anthropology. Between 1995 and 2006, the Huna Totem Corporation and (since 2000) Hoonah Indian Association, an Alaska Native village, provided information to the University of Pennsylvania Museum of Archaeology and Anthropology that, taken together, constituted a joint request for the repatriation of the 39 cataloged objects in question. The request identified each of the objects in question as a “sacred object” and an object of “cultural patrimony,” as these terms are defined in NAGPRA (25 U.S.C. 3001(3)(C) and (D)). In its June 19, 2009 response to this request, the University of Pennsylvania Museum of Archaeology and Anthropology acknowledged that one of the objects is a sacred object and an object of cultural patrimony; six of the objects are sacred objects, but are not objects of cultural patrimony; and one of the objects is an object of cultural patrimony, but is not a sacred object. The University of Pennsylvania Museum of Archaeology and Anthropology also stated that, while it had a “right of possession” to these eight cultural items, as defined in the NAGPRA regulations (43 CFR 10.10(a)(2)), nonetheless, it would elect not to assert its right of possession. The June 19, 2009 response also stated that the other 31 cataloged objects “do not meet the specific NAGPRA definitions for cultural patrimony or sacred objects” and, additionally, asserted the University of Pennsylvania Museum of Archaeology and Anthropology's right of possession to those 31 objects.

Disputing the University of Pennsylvania Museum of Archaeology and Anthropology's determination that only one of the 39 catalogued objects was both a sacred object and an object of cultural patrimony, as well as the Museum's claim of right of possession to the 39 cataloged objects and assertion of that right with respect to 31 of the objects, the Hoonah Indian Association and the Huna Totem Corporation joined in asking the Review Committee to facilitate the resolution of the dispute between themselves and the University of Pennsylvania Museum of Archaeology and Anthropology. The Designated Federal Official for the Review Committee agreed to the request.

At its November 17-19, 2010 meeting, the Review Committee considered the dispute. The issues before the Review Committee were (1) whether, in their request for the repatriation of the 39 catalogued objects in question, the requestors proved by a preponderance of the evidence that all the objects are “sacred objects” and objects of “cultural patrimony,” as these terms are defined in NAGPRA; and (2) whether, in response to the request for repatriation, the University of Pennsylvania Museum of Archaeology and Anthropology presented evidence proving, by a preponderance of the evidence, that the Museum has a “right of possession” to the objects. As defined in the NAGPRA regulations, “ ‘right of possession' means possession obtained with the voluntary consent of an individual or group that had authority of alienation.”

Findings of Fact: Six Review Committee members participated in the fact finding. One member was self-recused. By a vote of six to zero, the Review Committee found that all 39 of the requested cataloged objects are both sacred objects and objects of cultural patrimony, and that the University of Pennsylvania Museum of Archaeology and Anthropology does not have a right of possession to any of the requested cultural items.

Dated: November 7, 2012.
Mervin Wright, Jr.,
Acting Chair, Native American Graves Protection and Repatriation Review Committee.

[FR Doc. 2012-30443 Filed 12-17-12; 8:45 am]

BILLING CODE 4312-50-P